DEPARTMENT OF TRANSPORTATION

Federal Aviation Administration

Twelfth RTCA SC-229 406 MHz ELT Joint Plenary With EUROCAE WG-98

AGENCY: Federal Aviation Administration (FAA), U.S. Department of Transportation (DOT).

ACTION: Twelfth RTCA SC-229 406 MHz ELT Joint Plenary with EUROCAE WG-98.

SUMMARY: The FAA is issuing this notice to advise the public of the Twelfth RTCA SC-229 406 MHz ELT Plenary held jointly with EUROCAE WG-98. SC-229 is a subcommittee to RTCA.

DATES: The meeting will be held September 5-8, 2017 from 9:00 a.m.-5:00 p.m.

ADDRESSES: The meeting will be held at: EUROCAE Facilities, Triangle, 9-23 rue Paul Lafargue, 93200 Saint-Denis, France.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twelfth RTCA SC-229 406 MHz ELT Joint Plenary with EUROCAE WG-98. The agenda will include the following:

Tuesday September 5, 2017, 9:00 a.m.-5:00 p.m

1. Welcome/Introductions/Administrative Remarks

2. Agenda Overview and Approval

3. Minutes Washington D.C. Meeting Review and Approval

4. Review Action Items From Washington D.C. Meeting

5. Industry Coordination and Presentations

6. Week's Plan

7. Working Group of the Whole Meeting (Rest of the Day)

Wednesday September 6, 2017, 9:00 a.m.-5:00 p.m.

1. Working Group of the Whole Meeting

Thursday September 7, 2017, 9:00 a.m.-5:00 p.m.

1. Working Group of the Whole Meeting

Friday September 8, 2017, 9:00 a.m.-4:00 p.m.

1. Working Group of the Whole Meeting

2. Industry Coordination and Presentations (if any)

3. Work Plan

4. Discuss a Motion To Begin Open Consultation/Final Review and Comment on the ED-62A/DO-204A Document To Become Revision B

5. Other Business

6. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on August 8, 2017.
Mohannad Dawoud,
Management & Program Analyst, Partnership Contracts Branch, ANG-A17, NextGen, Procurement Services Division, Federal Aviation Administration.

[FR Doc. 2017-17056 Filed 8-11-17; 8:45 am]

BILLING CODE 4910-13-P